DEPARTMENT OF AGRICULTURE

Forest Service

Information Collection; Day Use on the National Forests of Southern California

AGENCY: Forest Service, USDA.

ACTION: Notice; request for comment.

SUMMARY: In accordance with the Paperwork Reduction Act of 1995, the Forest Service is seeking comments from all interested individuals and organizations on extending the agency's information collection regarding day use on the national forests of southern California.

DATES: Comments must be received in writing on or before July 30, 2002. Comments received after that date will be considered to the extent practicable.

ADDRESSES: Comments concerning this notice should be addressed to Dr. Deborah J. Chavez, Pacific Southwest Research Station, 4955 Canyon Crest Drive, Riverside, CA 92507. Comments also may be submitted via facsimile to (909) 680-1501 or send an e-mail to dchavez@fs.fed.us.

The public may inspect comments received at the Pacific Southwest Research Station's Riverside Fire Lab at 4955 Canyon Crest Drive, Riverside, CA, during normal business hours (8 a.m. to 4:30 p.m., Pacific Standard Time, Monday through Friday). Visitors are encouraged to call (909) 680-1500 to facilitate entry to the building.

FOR FURTHER INFORMATION CONTACT: Dr. Deborah J. Chavez, Pacific Southwest Research Station, (909) 680-1558 or dchavez@fs.fed.us. Individuals who use telecommunication devices for the deaf (TDD) may call the Federal Information Relay Service (FIRS) at 1-800-877-8339 between 8:00 a.m. and 8:00 p.m., Eastern Standard Time, Monday through Friday.

SUPPLEMENTARY INFORMATION:

Description of Information Collection

Title: Day Use on the National Forests of Southern California.

OMB Number: 0596-0129.

Expiration Date of Approval: 10/31/2002.

Type of Request: Extension.

Abstract: Users of national forests near urban areas in southern California come from a variety of ethnic/racial, income, age, educational, and other socio-demographic backgrounds. These socio-demographic differences affect the activities people pursue on national forest lands, the sources of information about national forests people utilize, and the site attributes people prefer. Past studies completed through the previously approved collection of information have provided baseline information from which managers have made decisions, revised forest plans, and renovated/redesigned recreation sites. Additional information is needed for the managers of national forests in southern California to validate previous results and to address the continuously changing profile of the visitor population recreating on the national forests of southern California. In the absence of the information potentially gained from the proposed information collection, the Forest Service will be ill-equipped to implement management changes required to respond to the needs and preferences of day-use visitors.

Data will be collected from visitors at outdoor recreation day-use sites (these include developed picnic areas, general forest day-use sites, off-road staging areas, trails, etc.) on national forests in southern California. Sites, dates of data collection, and individuals participating in the study will be randomly selected for inclusion in the study. Survey instruments will be available in English and Spanish and bilingual research teams will collect the data. Participation in this study is voluntary. The amount of time for completion of a survey is estimated at approximately 15 minutes or less. Participants will answer questions on the following topics: socio-demographic profile, national forest visitation history and patterns, activity patterns, information and communication, site amenities/characteristics, knowledge of place, sense of place/perceptions of place, and general comments. In addition to adjusting management of forests in southern California, results have been presented at local, national, and international meetings. If the Forest Service continues to gather this information, it will be utilized in a similar manner as in previous studies. In addition, the information collected will provide opportunities for comparisons of visitor profiles and use over time. Data will be evaluated and analyzed at the Pacific Southwest Research Station. The consequences of not collecting this data would be: (1) Decreased service delivery due to decreased quality and breadth of information provided to resource managers on the socio-demographic profile of visitors, visitation history and patterns, information and communication, site amenities/characteristics, knowledge of place, and sense of place/perceptions of place; (2) decreased ability of the research unit to continue and expand approved and assigned study topics such as understanding visitor profiles; (3) an increase in the amount of time the research unit needs to answer inquiries from managers and university contacts; (4) increased dependency on cooperator availability to carry out the research unit mission; and (5) loss of information represented in follow-up longitudinal studies.

Estimate of Annual Burden: 15 minutes per respondent.

Type of Respondents: Recreation visitors to national forests near urban areas in southern California.

Estimated Annual Number of Respondents: 600 per year.

Estimated Annual Number of Responses per Respondent: 1 per year.

Estimated Total Annual Burden on Respondents: 150 hours.

Comment Is Invited

Comment is invited on: (1) Whether this collection of information is necessary for the stated purposes and the proper performance of the functions of the agency, including whether the information will have practical or scientific utility; (2) the accuracy of the agency's estimate of the burden of the collection of information, including the validity of the methodology and assumptions used; (3) ways to enhance the quality, utility, and clarity of the information to be collected; and (4) ways to minimize the burden of the collection of information on respondents, including the use of automated, electronic, mechanical, or other technological collection techniques or other forms of information technology.

All comments received in response to this notice, including names and addresses when provided, will be a matter of public record. Comments will be summarized and included in the Department's submission to the Office of Management and Budget for approval.

Dated: May 24, 2002.
Robert Lewis, Jr.,
Deputy Chief, Research & Development.

[FR Doc. 02-13692 Filed 5-30-02; 8:45 am]

BILLING CODE 3410-11-P